DEPARTMENT OF HEALTH AND HUMAN SERVICES

Centers for Disease Control and Prevention

[60Day-20-20HF; Docket No. CDC-2020-0012]

Proposed Data Collection Submitted for Public Comment and Recommendations

AGENCY: Centers for Disease Control and Prevention (CDC), Department of Health and Human Services (HHS)

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “2019 Novel Coronavirus Airport Entry Questionnaires and Aircraft Contact Investigations Information Collection,” which will provide CDC with the ability to perform enhanced public health assessments of travelers from China, or other areas affected by the 2019 Novel Coronavirus (2019-nCoV) outbreak, to determine risk of infection with 2019-nCoV, and to facilitate any necessary public health follow-up.

DATES: CDC must receive written comments on or before April 6, 2020.

ADDRESSES: You may submit comments, identified by Docket No. CDC-2020-0012 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov. Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

2019 Novel Coronavirus Airport Entry Questionnaires and Contact Investigations—New Emergency—National Center for Emerging Zoonotic and Infectious Diseases (NCEZID), Centers for Disease Control and Prevention (CDC).

Background and Brief Description

CDC and the Department of Homeland Security (DHS) have been tasked with conducting risk assessment activities at international U.S. airports to detect individuals ill or at risk of being ill with 2019-nCoV. This primarily involves travelers coming from China. As the outbreak evolves, travelers from additional countries may be assessed for risk of 2019-nCoV infection at U.S. airports.

The information collected will be limited to that necessary to confirm the individual's identity, establish their travel itinerary, and make a public health risk assessment. This includes travel itinerary data, information about who the traveler is, and contact and locating information sufficient to complete potential follow-up after arrival. CDC will also observe travelers to determine if the traveler is experiencing any overt signs and symptoms of disease, as well as ask basic questions about signs or symptoms of illness. The information also includes a field for a temperature, which will be taken via a non-contact thermometer. CDC will require all travelers from Wuhan, China, and any symptomatic travelers from China, to provide information as part of an initial public health risk assessment. Travelers from other areas may be required to answer questions as part of a risk assessment if there is a demonstrated risk of exportation to the United States.

If an individual from an area where the virus is spreading has a fever, answers “Yes” to any of the symptom questions, or has visible signs of specific symptoms, they will be required to undergo a further public health evaluation that will ask more in-depth health and exposure-related questions.

In the event that there is a repatriation of U.S. citizens or other groups from foreign countries to the United States, and those individuals are coming from areas experiencing an outbreak of 2019-nCoV, individuals may be required to respond to a pre-boarding health screening and a questionnaire to assess their risk of infection depending on the risk of exposure. CDC may monitor individuals repatriated to the United States from areas experiencing an outbreak of 2019-nCoV for symptoms associated with the disease for a period of up to two weeks (14 days) after arrival, depending on exposure risks and whether or not they develop symptoms.

CDC is also seeking authorization to ask state and local health departments to administer questionnaires to air travelers who may have been exposed to a case of 2019-nCoV. In the event a confirmed case of 2019-nCoV flew to the United States, CDC will distribute the questionnaires to state health departments and ask them to make contact with their respective residents to determine if additional public health follow-up is needed. CDC will then ask the state health department to return the completed questionnaires. In limited circumstances, CDC may make direct contact with the at-risk travelers. There are no costs to respondents other than their time. The total estimated burden hours requested are 36,751.

Estimated Annualized Burden Hours
Respondent | Form | Number of respondents | Number of responses per respondent | Average burden per response (in minutes) | Total burden hours
Traveler | United States Travel Health Declaration (English or Mandarin Chinese) | 100,000 | 1 | 10/60 | 16,667
Traveler | United States Travel Health Declaration for Repatriation | 5,000 | 1 | 15/60 | 1,250
Traveler | 2019n-CoV Supplemental Questionnaire | 5,000 | 1 | 15/60 | 1,250
Traveler | Preboarding Health Screen | 5,000 | 1 | 5/60 | 417
Traveler | 2019-nCoV Air CI Basic Questionnaire | 5,500 | 1 | 30/60 | 2,750
Traveler | 2019-nCoV Air CI Follow-up Questionnaire | 5,500 | 1 | 30/60 | 2,750
Traveler | 2019-nCoV Daily Symptom Check | 5,000 | 28 | 5/60 | 11,667
Total |  |  |  |  | 36,751

Jeffrey M. Zirger,
Lead, Information Collection Review Office, Office of Scientific Integrity, Office of Science, Centers for Disease Control and Prevention.

[FR Doc. 2020-02266 Filed 2-4-20; 8:45 am]

BILLING CODE 4163-18-P